DEPARTMENT OF HEALTH AND HUMAN SERVICES

Centers for Disease Control and Prevention

Modification of United States Ports at Which Rodent Infestation Inspections Will Be Conducted and Deratting and Deratting Exemption Certificates Issued

AGENCY: Centers for Disease Control and Prevention (CDC), Department of Health and Human Services.

ACTION: Notice.

SUMMARY: On September 13, 2000, CDC published a notice soliciting proposals to add additional ports to, or otherwise modify the list of those at which it will conduct rodent infestation inspection of ships, and issue Deratting and Deratting Exemption Certificates. While the United States does not require these certificates for ships to enter its seaports, Article 17 of the International Health Regulations requires that the United States provide these services, and 42 CFR 71.46 authorizes their performance by CDC through the Public Health Service (PHS). CDC is expanding the coverage area of some of the current 11 ports and adding 23 additional ports for a total of 34 ports.

DATES: Rodent infestation inspection of ships, and issuance of Deratting and Deratting Exemption Certificates will begin at the additional ports on July 1, 2001.

FOR FURTHER INFORMATION CONTACT: James E. Barrow, Chief, Program Operations Branch, Division of Global Migration and Quarantine, National Center for Infectious Diseases, Centers for Disease Control and Prevention (CDC), Mailstop E03, Atlanta, Georgia 30333, telephone (404) 639-8107, Facsimile (404) 639-2599, E-mail jeb1@cdc.gov.

Authority: 42 U.S.C. 264-271, 42 CFR 71.46, IHR Articles 17 and 53.

SUPPLEMENTARY INFORMATION:

Purpose and Background

The purpose of this announcement is to add 23 additional ports to the list of United States ports at which CDC will conduct rodent infestation inspections of ships, and issue Deratting and Deratting Exemption Certificates. While the United States does not require these certificates for ships to enter its seaports, CDC currently provides rodent infestation inspections and issues Deratting and Deratting Exemption Certificates for ships at 11 major ports upon request. These ports include: Baltimore, MD; Honolulu, HI; Houston, TX; Jacksonville, FL; Los Angeles, CA; Miami, FL; New Orleans, LA; New York, NY; San Francisco, CA; Savannah, GA; and Seattle, WA. Article 17 of the International Health Regulations, published by the World Health Organization, Geneva, Switzerland, requires that each Health Administration provide these services, and Article 82 outlines the criteria for charging fees. 42 CFR 71.46 authorizes the performance of these services by PHS as carried out by CDC. For many years, CDC provided these services at no cost to the owners or agents of ships requesting them. Consistent with the practice of most foreign countries and to reduce the cost of the inspection program, beginning on October 1, 1997, CDC consolidated its inspection activities to include only the ports listed above [63 FR 17427]. Further, beginning on June 6, 1999, CDC imposed user fees for inspections conducted at the above listed ports [64 FR 24658]. Now that the cost of providing these services is being passed along as a charge to those receiving them, and in the interest of facilitating the expeditious and economical movement of ships between the United States and countries that require a Deratting or Deratting Exemption Certificate for entry into their ports, CDC published a Federal Register notice on September 13, 2000 [65 FR 55253], soliciting requests to add additional ports to the list at which services will be provided.

Comments Received

A small number of comments were received during the comment period. Most of the comments included a request that CDC return to the past practice of conducting rodent infestation inspections and issuing deratting exemption certificates at virtually all U.S. seaports and/or a list of ports where inspection services would be most beneficial to them. Convenience and economy were cited as reasons for the addition of ports. One municipality cited a potential economic benefit to the community if inspections were available and additional traffic attracted because of their availability. None of the comments included the estimated number of inspections for the ports requested, and few provided an estimate of cost savings to the shipping industry. This supporting information was requested in the Federal Register notice.

Conclusion

In deciding where to expand these services, CDC considered the information submitted by respondents, the estimated demand for services, and the availability and suitability of potential vendors.

Effective July 1, 2001, rodent infestation inspections of ships will be conducted, and Deratting and Deratting Exemption Certificates issued at the following U.S. seaports. Inspections will be conducted upon request, subject to the availability of a CDC-designated inspector. A user fee of $150 will continue to be applicable to all rodent infestation inspections conducted by CDC or its vendors.

Boston, MA

New York, NY/Northern NJ

Philadelphia, PA

Norfolk/Hampton Roads Area, VA

Charleston, SC

Savannah, GA

Brunswick, GA

Jacksonville, FL

Cape Canaveral, FL

Port Everglades, FL

Miami, FL

Tampa, FL

Panama City, FL

Pensacola, FL

Mobile, AL

Pascagoula/Gulfport, MS

New Orleans/Metarie, LA

Beaumont/Port Arthur/Orange, TX

Houston/Galveston/Texas City, TX

Corpus Christi, TX

Brownsville/Port Isabel, TX

Chicago, IL

Toledo, OH

Detroit, MI

Cleveland, OH

San Diego/Pt. Hueneme, CA

Los Angeles/Long Beach/El Segundo, CA

San Francisco Bay Area, CA

Portland, OR

Seattle, WA

Tacoma, WA

Kalama, WA

Honolulu, HI

San Juan, PR

Dated: June 19, 2001.
Thena M. Durham,
Director, Executive Secretariat, Office of the Director, Centers for Disease Control and Prevention (CDC).

[FR Doc. 01-15825 Filed 6-22-01; 8:45 am]

BILLING CODE 4163-18-P